DEPARTMENT OF TRANSPORTATION

Maritime Administration

Reports, Forms and Recordkeeping Requirements; Agency Information Collection Activity Under OMB Review

AGENCY: Maritime Administration, DOT.

ACTION: Notice and request for comments.

SUMMARY: In compliance with the Paperwork Reduction Act of 1995 (44 U.S.C. 3501 et seq.), this notice announces that the Information Collection Request (ICR) abstracted below is forwarded to the Office of Management and Budget (OMB) for review and comments. The ICR describes the nature of the information collection and its expected burden. A Federal Register Notice with a 60-day comment period soliciting comments on the following information collection was published on December 4, 2012 and comments were due by February 4, 2013. No comments were received.

DATES: Comments should be submitted on or before March 18, 2013.

FOR FURTHER INFORMATION CONTACT: Michael Hokana, Maritime Administration, 1200 New Jersey Avenue SE., Washington, DC 20590. Telephone: 202-366-0760; or email michael.hokana@dot.gov. Copies of this collection also can be obtained from that office.

SUPPLEMENTARY INFORMATION: Maritime Administration (MARAD).

Title: Jones Act Vessel Availability Determinations.

OMB Control Number: 2133-0545

Type of Request: Extension of currently approved collection.

Abstract: The information is needed in order for the Maritime Administrator to make a timely and informed decision on the availability of coastwise qualified vessels in support of a request from the Department of Homeland Security prior to the final decision on granting a waiver request under 46 U.S.C. Section 501(b). The information will be specifically used to determine if there are coastwise qualified vessels available for a certain requirement.

Affected Public: Coastwise qualified vessel owners, operators, charterers, brokers and representatives.

Annual Estimated Burden Hours: 383 hours.

Forms: MA-1075, 1075A.

ADDRESSES: Send comments regarding this information collection to the Office of Information and Regulatory Affairs, Office of Management and Budget, 725 Seventeenth Street NW., Washington, DC, 20503, Attention: MARAD Desk Officer. Alternatively, comments may be sent via email to the Office of Information and Regulatory Affairs (OIRA), Office of Management and Budget, at the following address: oira.submissions@omb.eop.gov.

Comments Are Invited On: (a) Whether the proposed collection of information is necessary for the proper performance of the functions of the agency, including whether the information will have practical utility; (b) the accuracy of the agency's estimate of the burden of the proposed information collection; (c) ways to enhance the quality, utility and clarity of the information to be collected; and (d) ways to minimize the burden of the collection of information on respondents, including the use of automated collection techniques or other forms of information technology. A comment to OMB is best assured of having its full effect if OMB receives it receives it within 30 days of publication.

(Authority: 49 CFR 1.93.)

Dated: February 11, 2013.
Julie P. Agarwal,
Secretary, Maritime Administration.

[FR Doc. 2013-03506 Filed 2-14-13; 8:45 am]

BILLING CODE 4910-81-P